OFFICE OF PERSONNEL MANAGEMENT

5 CFR Part 532

RIN 3206-AN40

Prevailing Rate Systems; Definition of Kent County, Michigan, and Cameron County, Texas, to Nonappropriated Fund Federal Wage System Wage Areas

AGENCY: U. S. Office of Personnel Management.

ACTION: Proposed rule with request for comments.

SUMMARY: The U.S. Office of Personnel Management (OPM) is issuing a proposed rule that would define Kent County, Michigan, as an area of application county to the Macomb, MI, nonappropriated fund (NAF) Federal Wage System (FWS) wage area and Cameron County, Texas, as an area of application county to the Nueces, TX, NAF FWS wage area. These changes are necessary because there are NAF FWS employees working in Kent and Cameron Counties, and the counties are not currently defined to NAF wage areas.

DATES: We must receive comments on or before September 23, 2016.

ADDRESSES: You may submit comments, identified by “RIN 3206-AN40,” using any of the following methods:

Federal eRulemaking Portal: http://www.regulations.gov. Follow the instructions for submitting comments.

Mail: Brenda L. Roberts, Deputy Associate Director for Pay and Leave, Employee Services, U.S. Office of Personnel Management, Room 7H31, 1900 E Street NW., Washington, DC 20415-8200.

Email: pay-leave-policy@opm.gov.

FOR FURTHER INFORMATION CONTACT: Madeline Gonzalez, by telephone at (202) 606-2838 or by email at pay-leave-policy@opm.gov.

SUPPLEMENTARY INFORMATION: OPM is issuing a proposed rule that would define Kent County, MI, as an area of application county to the Macomb, MI, NAF FWS wage area and Cameron County, TX, as an area of application county to the Nueces, TX, NAF FWS wage area. The Veterans Canteen Service (VCS) now employs one NAF FWS employee at VCS #315 in the Wyoming Health Care Center in Kent County and two NAF FWS employees at VCS #740 in the Veterans Affairs Health Care Center at Harlingen in Cameron County.

Under § 532.219 of title 5, Code of Federal Regulations, each NAF wage area “shall consist of one or more survey areas, along with nonsurvey areas, if any, having nonappropriated fund employees.” Kent and Cameron Counties do not meet the regulatory criteria under 5 CFR 532.219 to be established as separate NAF wage areas; however, nonsurvey counties may be combined with a survey area to form a wage area. Section 532.219 lists the regulatory criteria that OPM considers when defining FWS wage area boundaries.

OPM recently completed reviews of the definitions of Kent and Cameron Counties and is proposing the changes described below. The Federal Prevailing Rate Advisory Committee, the national labor-management committee responsible for advising OPM on matters concerning the pay of FWS employees, recommended these changes by consensus. These changes would apply on the first day of the first applicable pay period beginning on or after 30 days following publication of the final regulations.

Kent County, MI

Kent County would be defined as an area of application county to the Macomb, MI, NAF FWS wage area. The closest NAF wage area to Kent County is the Macomb wage area. There are no other NAF wage areas in the immediate vicinity of Kent County. VCS #315 is located approximately 175 miles from Selfridge Air National Guard Base, the Macomb wage area's host activity.

With the definition of Kent County to the Macomb NAF wage area, the Macomb wage area would consist of 1 survey county, Macomb County, MI, and 13 area of application counties: Alpena, Calhoun, Crawford, Grand Traverse, Huron, Iosco, Kent, Leelanau, Ottawa, Saginaw, Washtenaw, and Wayne Counties, MI; and Ottawa County, OH.

Cameron County, TX

Cameron County would be defined as an area of application county to the Nueces, TX, NAF FWS wage area. The closest NAF wage area to Cameron County is the Nueces wage area. There are no other NAF wage areas in the immediate vicinity of Cameron County. VCS #740 is located approximately 148 miles from Naval Air Station Corpus Christi, the Nueces wage area's host activity.

With the definition of Cameron County to the Nueces NAF wage area, the Nueces wage area would consist of one survey county, Nueces County, TX, and six area of application counties: Bee, Calhoun, Cameron, Kleberg, San Patricio, and Webb Counties, TX.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Beth F. Cobert,
Acting Director.

Accordingly, OPM is proposing to amend 5 CFR part 532 as follows:

PART 532—PREVAILING RATE SYSTEMS

1. The authority citation for part 532 continues to read as follows:

Authority: 5 U.S.C. 5343, 5346; § 532.707 also issued under 5 U.S.C. 552.

2. Appendix D to subpart B is amended by revising the wage area listing for the Macomb, MI, and Nueces, TX, wage areas to read as follows:

Appendix D to Subpart B of Part 532—Nonappropriated Fund Wage and Survey Areas

* * * * *

MICHIGAN
Macomb
Survey Area
Michigan:
Macomb
Area of Application. Survey area plus:
Michigan:
Alpena
Calhoun
Crawford
Grand Traverse
Huron
Iosco
Kent
Leelanau
Ottawa
Saginaw
Washtenaw
Wayne
Ohio:
Ottawa
* * * * *
TEXAS
* * * * *
Nueces
Survey Area
Texas:
Nueces
Area of Application. Survey area plus:
* * * * *
Texas:
Bee
Calhoun
Cameron
Kleberg
San Patricio
Webb

* * * * *

[FR Doc. 2016-20179 Filed 8-23-16; 8:45 am]

BILLING CODE 6325-39-P